DEPARTMENT OF TRANSPORTATION

Federal Aviation Administration

14 CFR Part 39

[Docket No. FAA-2018-0057; Product Identifier 2017-SW-119-AD; Amendment 39-19729; AD 2019-18-02]

RIN 2120-AA64

Airworthiness Directives; Leonardo S.p.A. Helicopters

AGENCY: Federal Aviation Administration (FAA), DOT.

ACTION: Final rule.

SUMMARY: The FAA is adopting a new airworthiness directive (AD) for certain Leonardo S.p.A. (Leonardo) Model AW169 helicopters. This AD requires replacing the seals, filler wedges, and handles of each emergency exit window. This AD was prompted by a report that a high level of pushing force was required to jettison some windows. The actions of this AD are intended to address an unsafe condition on these products.

DATES: This AD is effective October 16, 2019.

The Director of the Federal Register approved the incorporation by reference of a certain document listed in this AD as of October 16, 2019.

ADDRESSES: For service information identified in this final rule, contact Leonardo S.p.A. Helicopters, Matteo Ragazzi, Head of Airworthiness, Viale G. Agusta 520, 21017 C. Costa di Samarate (Va) Italy; telephone +39-0331-711756; fax +39-0331-229046; or at http://www.leonardocompany.com/-/bulletins. You may review a copy of the referenced service information at the FAA, Office of the Regional Counsel, Southwest Region, 10101 Hillwood Pkwy, Room 6N-321, Fort Worth, TX 76177. It is also available on the internet at http://www.regualtions.gov by searching for and locating Docket No. FAA-2018-0057.

Examining the AD Docket

You may examine the AD docket on the internet at http://www.regulations.gov by searching for and locating Docket No. FAA-2018-0057; or in person at Docket Operations between 9 a.m. and 5 p.m., Monday through Friday, except Federal holidays. The AD docket contains this AD, the European Aviation Safety Agency (EASA) AD, any service information that is incorporated by reference, the economic evaluation, any comments received, and other information. The street address for Docket Operations is U.S. Department of Transportation, Docket Operations, M-30, West Building Ground Floor, Room W12-140, 1200 New Jersey Avenue SE, Washington, DC 20590.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Discussion

On September 13, 2018, at 83 FR 46424, the Federal Register published the FAA's notice of proposed rulemaking (NPRM), which proposed to amend 14 CFR part 39 by adding an AD that would apply to Leonardo Model AW169 helicopters, serial numbers (S/N) 69007, 69009, 69011 to 69019 inclusive, 69021 to 69024 inclusive, 69027, 69032, 69033, 69041, 69045, and 69051. The NPRM proposed to require, within 70 hours time-in-service (TIS), replacing the seals and filler wedges on various cockpit and passenger windows and replacing certain internal and external window straps. The NPRM also proposed to require replacing decals on certain internal and external passenger and cockpit windows. The proposed requirements were intended to ensure the jettisoning of helicopter emergency exit windows, possibly affecting the evacuation of occupants after an emergency landing.

The NPRM was prompted by AD No. 2017-0155, dated August 23, 2017, issued by EASA, which is the Technical Agent for the Member States of the European Union, to correct an unsafe condition for Leonardo Model AW169 helicopters, S/N 69007, 69009, 69011 to 69019 inclusive, 69021 to 69024 inclusive, 69027, 69032, 69033, 69041, 69045, and 69051. EASA advises that during scheduled replacement of emergency exit window seals on in-service Model AW189 helicopters, an “excessively high” level of pushing force was required to jettison some windows. Further investigation determined that the affected windows were incorrectly installed during manufacturing. The installation did not conform to the approved drawings during the first installation in the production line. According to EASA, due to the similarity in the manufacturing process, incorrect window installation may have occurred on Model AW169 helicopters.

Comments

The FAA gave the public the opportunity to participate in developing this AD, but did not receive any comments on the NPRM.

FAA's Determination

These helicopters have been approved by EASA and are approved for operation in the United States. Pursuant to the FAA's bilateral agreement with the European Union, EASA has notified the FAA of the unsafe condition described in its AD. The FAA is issuing this AD because the FAA evaluated all information provided by EASA and determined the unsafe condition exists and is likely to exist or develop on other helicopters of the same type designs and that air safety and the public interest require adopting the AD requirements as proposed.

Related Service Information Under 1 CFR Part 51

The FAA reviewed Leonardo Service Bulletin No. 169-032, Revision A, dated September 8, 2017, which specifies replacing the seals, the non-metallic channels, handles, and decals on the cockpit doors and cabin emergency exit windows. This service information is reasonably available because the interested parties have access to it through their normal course of business or by the means identified in the ADDRESSES section.

Differences Between This AD and the EASA AD

The EASA AD requires that the corrective actions occur within 70 hours TIS or 6 months. This AD requires that the corrective actions occur within 70 hours TIS.

Costs of Compliance

The FAA estimates that this AD affects 1 helicopter of U.S. Registry and that labor costs average $85 a work-hour. Based on these estimates, the FAA expects that 24 work-hours are needed to replace the decal, seal, filler wedges, and handle of each emergency exit window installed in cockpit doors and the cabin. Parts cost $1,500 for a total cost of $3,540 for this helicopter.

According to Leonardo's service information some of the costs of this AD may be covered under warranty, thereby reducing the cost impact on affected individuals. The FAA does not control warranty coverage by Leonardo. Accordingly, the FAA has included all costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD would not have a substantial direct effect on the States, on the relationship between the national Government and the States, or on the distribution of power and responsibilities among the various levels of government.

For the reasons discussed above, I certify this AD:

1. Is not a “significant regulatory action” under Executive Order 12866,

2. Will not affect intrastate aviation in Alaska, and

3. Will not have a significant economic impact, positive or negative, on a substantial number of small entities under the criteria of the Regulatory Flexibility Act.

The FAA prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-18-02 Leonardo S.p.A.: Amendment 39-19729; Docket No. FAA-2018-0057; Product Identifier; 2017-SW-119-AD.

(a) Applicability

This AD applies to Leonardo S.p.A. (Leonardo) Model AW169 helicopters, serial numbers 69007, 69009, 69011 through 69019, 69021 through 69024, 69027, 69032, 69033, 69041, 69045, and 69051, certificated in any category, where the emergency exit windows have never been removed and reinstalled.

(b) Unsafe Condition

This AD defines the unsafe condition as failure of an emergency window to jettison, which could prevent occupants from evacuating the helicopter during an emergency.

(c) Effective Date

This AD becomes effective October 16, 2019.

(d) Compliance

You are responsible for performing each action required by this AD within the specified compliance time unless it has already been accomplished prior to that time.

(e) Required Actions

Within 70 hours time-in-service:

(1) Replace the seals and filler wedges on the left hand (LH) and right hand (RH) cockpit door upper windows.

Note 1 to paragraphs (e)(1) and (2) of this AD: Leonardo refers to filler wedges as “non-metallic channels.”

(2) Replace the seals and filler wedges on the forward LH and RH passenger door windows. For helicopters without passenger sliding window kit part number (P/N) 6F5630F00411, also replace the seals and filler wedges of the aft LH and RH passenger door windows.

(3) For helicopters with a strap P/N A487A003A, replace each strap with emergency exit window handle P/N 8G9500L00151 on the internal side of the window and P/N 8G9500L00251 on the external side of the window.

(4) Remove any decal P/N A180A005E21 from the internal side of the passenger and cockpit windows and replace with decal P/N A180A022E21, using as a reference Figure 1 and Figure 2 of Leonardo Service Bulletin No. 169-032, Revision A, dated September 8, 2017 (SB No. 169-032).

(5) Remove any decal P/N A487A003A from the external side of the passenger and cockpit windows and replace with decals P/N AW003DE005E33B, using as a reference Figure 3 of SB No. 169-032.

(f) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(g) Additional Information

The subject of this AD is addressed in European Aviation Safety Agency (EASA) AD No. 2017-0155, dated August 23, 2017. You may view the EASA AD on the internet at http://www.regulations.gov in Docket No. FAA-2018-0057.

(h) Subject

Joint Aircraft Service Component (JASC) Code: 5220, Emergency Exits.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Leonardo Service Bulletin No. 169-032, Revision A, dated September 8, 2017.

(ii) [Reserved]

(3) For service information identified in this AD, contact Leonardo S.p.A. Helicopters, Matteo Ragazzi, Head of Airworthiness, Viale G.Agusta 520, 21017 C.Costa di Samarate (Va) Italy; telephone +39-0331-711756; fax +39-0331-229046; or at http://www.leonardocompany.com/-/bulletins.

(4) You may review the referenced service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email fedreg.legal@nara.gov, or go to: http://www.archives.gov/federal-register/cfr/ibr-locations.html.

Issued in Fort Worth, Texas, on September 4, 2019.
Lance T. Gant,
Director, Compliance & Airworthiness Division, Aircraft Certification Service.

[FR Doc. 2019-19535 Filed 9-10-19; 8:45 am]

BILLING CODE 4910-13-P